DEPARTMENT OF TRANSPORTATION

Federal Motor Carrier Safety Administration

[Docket No. FMCSA-2014-0002]

Qualification of Drivers; Exemption Applications; Vision

AGENCY: Federal Motor Carrier Safety Administration (FMCSA), DOT.

ACTION: Notice of applications for exemptions; request for comments.

SUMMARY: FMCSA announces receipt of applications from 58 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before March 27, 2014.

ADDRESSES: You may submit comments bearing the Federal Docket Management System (FDMS) Docket No. FMCSA-2014-0002 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 58 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Thomas R. Abbott

Mr. Abbott, age 49, has had amblyopia in his right eye since birth. The visual acuity in his right eye is 20/400, and in his left eye, 20/20. Following an examination in 2013, his optometrist certified that, in his medical opinion, Mr. Abbott does have sufficient vision to operate a commercial motor vehicle. Mr. Abbott reported that he has driven straight trucks for 8 years, accumulating 332,800 miles. He holds a Class B Commercial Driver's License (CDL) from Tennessee. His driving record for the last 3 years shows no crashes and no convictions for moving violations in a CMV.

John M. Alfano

Mr. Alfano, 56, has had a macular scar in his left eye since 2006. The visual acuity in his right eye is 20/20, and in his left eye, 20/50. Following an examination in 2013, his optometrist noted, “He visually is able to perform driving tasks needed to operate a commercial vehicle.” Mr. Alfano reported that he has driven straight trucks for 37 years, accumulating 296,000 miles. He holds a chauffer's license from Michigan. His driving record for the last 3 years shows no crashes and no convictions for moving violations in a CMV.

Corey L. Amans

Mr. Amans, 44, has a macular scar in his right eye due to a traumatic incident in 1989. The visual acuity in his right eye is 20/400, and in his left eye, 20/20. Following an examination in 2013, his optometrist noted, “I certify that in my medical opinion, Corey has sufficient vision to perform the driving test required to operate a commercial vehicle based on the minimum Wisconsin standards for commercial drivers.” Mr. Amans reported that he has driven straight trucks for 25 years, accumulating 800,000 miles. He holds a Class BCDM CDL from Wisconsin. His driving record for the last 3 years shows no crashes and no convictions for moving violations in a CMV.

Bruce V. Anderson

Mr. Anderson, 57, has had refractive amblyopia in his left eye since childhood. The visual acuity in his right eye is 20/20, and in his left eye, 20/400. Following an examination in 2013, his optometrist noted, “In my professional opinion, his vision is adequate to perform the driving tasks necessary to safely operate a commercial motor vehicle.” Mr. Anderson reported that he has driven straight trucks for 32 years, accumulating 480,000 miles. He holds a Class B CDL from Minnesota. His driving record for the last 3 years shows no crashes and no convictions for moving violations in a CMV.

Alan A. Andrews

Mr. Andrews, 59, has had amblyopia in his left eye since birth. The visual acuity in his right eye is 20/25, and in his left eye, 20/800. Following an examination in 2013, his optometrist stated that, in his medical opinion, Mr. Andrews does have sufficient vision to operate a commercial motor vehicle. Mr. Andrews reported that he has driven straight trucks for 34 years, accumulating 1.7 million miles, and tractor-trailer combinations for 34 years, accumulating 1.7 million miles. He holds a Class A CDL from Maine. His driving record for the last 3 years shows no crashes and no convictions for moving violations in a CMV.

Franklin D. Bailey

Mr. Bailey, 45, has had amblyopia in his left eye since birth. The visual acuity in his right eye is 20/20, and in his left eye, 20/200. Following an examination in 2013, his ophthalmologist noted that Mr. Bailey's vision condition will not affect the safe operation of a CMV. Mr. Bailey reported that he has driven straight trucks for 4 years, accumulating 400,000 miles. He holds a Class A CDL from Georgia. His driving record for the last 3 years shows no crashes and one conviction for a moving violation in a CMV; he failed to signal a lane change or turn.

Felipe Bayron

Mr. Bayron, 57, has had amblyopia in his right eye since childhood. The visual acuity in his right eye is 20/60, and in his left eye, 20/20. Following an examination in 2013, his optometrist noted, “The patient was diagnosed with Amblyopia [sic] in the right eye (O.D.) and normal ocular health in the left . . . It is my professional opinion that there is no doubt Mr. Bayron is more than sufficient to perform the driving tasks required to operate a commercial vehicle.” Mr. Bayron reported that he has driven straight trucks for 4 years, accumulating 500,000 miles, and tractor-trailer combinations for 8 years, accumulating 786,000 miles. He holds a Class ABCD CDL from Wisconsin. His driving record for the last 3 years shows no crashes and no convictions for moving violations in a CMV.

Tomas Benavidez, Jr.

Mr. Benavidez, 41, has a retinal scar in his left eye due to a traumatic incident during childhood. The visual acuity in his right eye is 20/20, and in his left eye, light perception. Following an examination in 2013, his optometrist noted, “In my medical opinion, Thomas [sic] exhibits sufficient vision to perform the driving tasks required to operate a commercial vehicle.” Mr. Benavidez reported that he has driven straight trucks for 14 years, accumulating 1 million miles. He holds a Class B CDL from Idaho. His driving record for the last 3 years shows no crashes and no convictions for moving violations in a CMV.

Michael S. Broadway

Mr. Broadway, 32, has had amblyopia in his left eye since childhood. The visual acuity in his right eye is 20/20, and in his left eye, 20/100. Following an examination in 2013, his ophthalmologist noted, “The ocular health of his eyes is stable and he would be able to drive truck [sic].” Mr. Broadway reported that he has driven straight trucks for 4 years, accumulating 20,000 miles, and tractor-trailer combinations for 4 years, accumulating 20,000 miles. He holds a Class A CDL from Oregon. His driving record for the last 3 years shows no crashes and no convictions for moving violations in a CMV.

Gary A. Budde

Mr. Budde, 59, has had aphakia, exotropia, an irregular pupil, and retinal problems since 1973, causing a visual field defect. The visual acuity in his right eye is 20/40, and in his left eye, 20/20. Following an examination in 2013, his optometrist noted, “Mr. Budde is aphakic, has retinal problems, exotropia, and an irregular pupil . . . Mr. Budde has the ability to operate a commercial vehicle.” Mr. Budde reported that he has driven straight trucks for 23 years, accumulating 230,000 miles, and tractor-trailer combinations for 30 years, accumulating 3 million miles. He holds a Class A CDL from Illinois. His driving record for the last 3 years shows no crashes and no convictions for moving violations in a CMV.

Darrell L. Canupp

Mr. Canupp, 57, has a retinal scar due to a traumatic incident during childhood. The visual acuity in his right eye is 20/20, and in his left eye, no light perception. Following an examination in 2013, his optometrist noted, “Based on our testing today, Mr. Cannupp [sic] does meet the requirements for commercial driving while monocular.” Mr. Canupp reported that he has driven tractor-trailer combinations for 35 years, accumulating 1.05 million miles. He holds a Class CA CDL from Michigan. His driving record for the last 3 years shows no crashes and no convictions for moving violations in a CMV.

Mark W. Castleman

Mr. Castleman, 43, has had amblyopia in his left eye since childhood. The visual acuity in his right eye is 20/20, and in his left eye, 20/200. Following an examination in 2013, his optometrist noted, “It is my impression Mr. Castleman has adequate visual skills to properly perform his job duties of operating a commercial vehicle.” Mr. Castleman reported that he has driven straight trucks for 20 years, accumulating 600,000 miles. He holds a Class B CDL from Minnesota. His driving record for the last 3 years shows no crashes and no convictions for moving violations in a CMV.

Lorimer E. Christianson

Mr. Christianson, 56, has had a prosthetic left eye since 1990. The visual acuity in his right eye is 20/20, and in his left eye, no light perception. Following an examination in 2013, his ophthalmologist noted, “Based on these findings, I feel Mr. Christianson has the visual abilities to continue operating a commercial motor vehicle in interstate commerce because the visual loss in his left eye occurred in 1990 and has been stable since that time.” Mr. Christianson reported that he has driven straight trucks for 15 years, accumulating 67,500 miles. He holds a Class A CDL from Iowa. His driving record for the last 3 years shows no crashes and no convictions for moving violations in a CMV.

James R. Crum

Mr. Crum, 68, has had retinal scarring and traumatic optic neuropathy in his right eye since 1968. The visual acuity in his right eye is light perception, and in his left eye, 20/25. Following an examination in 2013, his optometrist noted, “As Mr. Crum has been driving a commercial vehicle for 30+ years and his vision is stable, there appear to be no contraindications for him to continue to do so.” Mr. Crum reported that he has driven straight trucks for 28 years, accumulating 616,000 miles, and tractor-trailer combinations for 27 years, accumulating 405,000. He holds a Class A CDL from Illinois. His driving record for the last 3 years shows no crashes and no convictions for moving violations in a CMV.

Travis C. Denzler

Mr. Denzler, 74, has had amblyopia in his left eye since childhood. The visual acuity in his right eye is 20/20, and in his left eye, 20/200. Following an examination in 2013, his ophthalmologist noted, “He does have sufficient vision to perform driving tasks for a commercial vehicle, as he has done that before.” Mr. Denzler reported that he has driven straight trucks for 56 years, accumulating 1.96 million miles, and tractor-trailer combinations for 2 years, accumulating 2,000 miles. He holds a Class A CDL from Minnesota. His driving record for the last 3 years shows no crashes and no convictions for moving violations in a CMV.

Joseph O. Dickerson

Mr. Dickerson, 54, has had a mature cataract in his left eye since birth. The visual acuity in his right eye is 20/20, and in his left eye, 20/80. Following an examination in 2013, his ophthalmologist noted, “Mr. Joseph Dickerson is a 54 year old [sic] white male who carries the diagnoses of psuedophakia in the right eye, mature cataract in the left eye, hypertropia/vertical hypertropia in the left eye and diabetes mellitus without ophthalmic complications in both eyes . . . In summary, Mr. Dickerson should be able to operate a commercial motor vehicle per our exams.” Mr. Dickerson reported that he has driven straight trucks for 32 years, accumulating 1.92 million miles, and tractor-trailer combinations for 25 years, accumulating 250,000 miles. He holds a Class A CDL from Missouri. His driving record for the last 3 years shows no crashes and no convictions for moving violations in a CMV.

Charles S. Duvel

Mr. Duvel, 55, has had a retinal scar in his right eye since 1997. The visual acuity in his right eye is 20/125, and in his left eye, 20/20. Following an examination in 2013, his optometrist noted, “At this time he is visually stable and has sufficient vision to perform the driving tasks necessary to operate a commercial vehicle.” Mr. Duvel reported that he has driven straight trucks for 3 years, accumulating 185,964 miles. He holds an operator's license from Pennsylvania. His driving record for the last 3 years shows no crashes and no convictions for moving violations in a CMV.

David L. Dykes

Mr. Dykes, 54, has a prosthetic right eye due to a traumatic incident in 2003. The visual acuity in his right eye is no light perception, and in his left eye, 20/20. Following an examination in 2013, his optometrist noted, “Overall, Mr. Dykes has good vision when fully corrected . . . He meets the requirements to operate a commercial vehicle.” Mr. Dykes reported that he has driven straight trucks for 37 years, accumulating 111,000 miles, and tractor-trailer combinations for 28 years, accumulating 1.4 million miles. He holds a Class A CDL from Florida. His driving record for the last 3 years shows no crashes and one conviction for a moving violation in a CMV; he failed to obey a traffic law.

Daniel L. Fedder

Mr. Fedder, 47, has had Leber's hereditary optic neuropathy his left eye since 1997. The visual acuity in his right eye is 20/20, and in his left eye, 20/200. Following an examination in 2013, his optometrist noted, “I, therefore, certify, [sic] that in my professional opinion as an optometrist, that Mr. Daniel Fedder has sufficient vision to perform the driving tasks required to operate a commercial vehicle.” Mr. Fedder reported that he has driven straight trucks for 16 years, accumulating 232,000 miles. He holds a Class B CDL from Illinois. His driving record for the last 3 years shows no crashes and no convictions for moving violations in a CMV.

Edward A. Flitton

Mr. Flitton, 37, has exotropia in his right eye due to a traumatic incident during 2005. The visual acuity in his right eye is 20/80, and in his left eye, 20/20. Following an examination in 2013, his ophthalmologist noted, “He has a visual acuity of 20/20 and in my medical opinion has sufficient vision to operate a commercial vehicle.” Mr. Flitton reported that he has driven straight trucks for 8 years, accumulating 160,000 miles. He holds a Class B CDL from Utah. His driving record for the last 3 years shows no crashes and no convictions for moving violations in a CMV.

Juan C. Gallo-Gomez

Mr. Gallo-Gomez, 41, has had amblyopia in his right eye since childhood. The visual acuity in his right eye is counting fingers, and in his left eye, 20/20. Following an examination in 2013, his ophthalmologist noted, “After reviewing Mr. Gallo's [sic] visual field and exam he [sic] meets the criteria to perform the driving tasks required to operate a commercial vehicle under FMCSA Monocular Vision Exemption Program [sic].” Mr. Gallo-Gomez reported that he has driven straight trucks for 5 years, accumulating 70,000 miles. He holds a Class A CDL from Connecticut. His driving record for the last 3 years shows no crashes and no convictions for moving violations in a CMV.

Michael Giagnacova

Mr. Giagnacova, 51, has had a macular scar, retinal detachment, and a cataract in his right eye since 1983. The visual acuity in his right eye is 20/80, and in his left eye, 20/20. Following an examination in 2013, his optometrist noted, “Michael Giagnacova has sufficient vision to operate a commercial motor vehicle.” Mr. Giagnacova reported that he has driven straight trucks for 20 years, accumulating 140,000 miles, and tractor-trailer combinations for 20 years accumulating 60,000 miles. He holds a Class AM CDL from Pennsylvania. His driving record for the last 3 years shows no crashes and no convictions for moving violations in a CMV.

Andeberhan O. Gidey

Mr. Gidey, 46, has complete loss of vision in his left eye due to a traumatic incident during childhood. The visual acuity in his right eye is 20/20, and in his left eye, no light perception. Following an examination in 2013, his optometrist noted, “His vision is stable, has the ability to distinguish colors of traffic control signals, and in my opinion, has sufficient vision to perform the driving tasks required to operate a commercial vehicle.” Mr. Gidey reported that he has driven tractor-trailer combinations for 8 years, accumulating 192,000 miles. He holds a Class A CDL from Washington. His driving record for the last 3 years shows one crash, for which he was cited, and no convictions for moving violations in a CMV.

Christopher I. Goodwin

Mr. Goodwin, 52, has had amblyopia in his left eye since birth. The visual acuity in his right eye is 20/20, and in his left eye, 20/60. Following an examination in 2013, his ophthalmologist noted, “In my medical opinion the patient has sufficient vision to preform [sic] the driving tasks required to operate a commercial vehicle.” Mr. Goodwin reported that he has driven straight trucks for 3 years, accumulating 231,987 miles. He holds a Class A CDL from North Carolina. His driving record for the last 3 years shows no crashes and no convictions for moving violations in a CMV.

Luis A. Gomez-Banda

Mr. Gomez-Banda, 35, has had amblyopia in his left eye since childhood. The visual acuity in his right eye is 20/20, and in his left eye, 20/120. Following an examination in 2013, his optometrist noted that there were no driving restrictions necessary for the patient to safely operate a commercial motor vehicle. Mr. Gomez-Banda reported that he has driven straight trucks for 9 years, accumulating 118,638 miles. He holds a Class CM CDL from Nevada. His driving record for the last 3 years shows no crashes and no convictions for moving violations in a CMV.

Kevin G. Karow

Mr. Karow, 50, has had glaucoma and amblyopia in his left eye since 1993. The visual acuity in his right eye is 20/20, and in his left eye, 20/150. Following an examination in 2013, his ophthalmologist noted, “I hereby certify to these findings and report that [to] the best of my knowledge that he can perform driving tasks that are required to operate a commercial vehicle, from a vision perspective.” Mr. Karow reported that he has driven straight trucks for 20 years, accumulating 78,000 miles. He holds a Class ABCDM CDL from Wisconsin. His driving record for the last 3 years shows no crashes and no convictions for moving violations in a CMV.

Gregory L. Kockelman

Mr. Kockelman, 56, has a retinal detachment in his left eye due to a traumatic incident in 2009. The visual acuity in his right eye is 20/15, and in his left eye, 20/50. Following an examination in 2013, his optometrist noted, “in [sic] my opinion he will have no difficulty driving or operating any heavy machinery. He will have no restrictions with his CDL as far as vision is concerned.” Mr. Kockelman reported that he has driven straight trucks for 36 years, accumulating 180,000 miles, and tractor-trailer combinations for 36 years, accumulating 288,000 miles. He holds a Class A CDL from Minnesota. His driving record for the last 3 years shows no crashes and no convictions for moving violations in a CMV.

David R. Knobloch

Mr. Knobloch, 56, has had choroidal melanoma in his right eye since 2004. The visual acuity in his right eye is 20/100 and in his left eye, 20/20. Following an examination in 2013, his optometrist noted, “My estimation is that Mr. Knobloch retains sufficient visual acuity and visual perception to adequately drive a commercial motor vehicle.” Mr. Knobloch reported that he has driven tractor-trailer combinations for 30 years, accumulating 2.88 million miles. He holds a Class CA CDL from Michigan. His driving record for the last 3 years shows no crashes and no convictions for moving violations in a CMV.

Perry T. Kolberg

Mr. Kolberg, 56, has a retinal detachment and retinal scarring in his left eye due to a traumatic injury during childhood. The visual acuity in his right eye is 20/20, and in his left eye, hand motion. Following an examination in 2013, his optometrist noted, “Patient is safe to operate a vehicle and to operate a CDL required [sic] license vehicle as patient has normal vision in the right eye.” Mr. Kolberg reported that he has driven straight trucks for 21 years, accumulating 210,000 miles, tractor-trailer combinations for 21 years, accumulating 346,500 miles. He holds a Class AM CDL from Georgia. His driving record for the last 3 years shows no crashes and no convictions for moving violations in a CMV.

Mark A. La Fleur

Mr. La Fleur, 47, has had a retinal detachment in his left eye since 1998. The visual acuity in his right eye is 20/20, and in his left eye, no light perception. Following an examination in 2013, his ophthalmologist noted, “In my opinion, Mr. LaFleur [sic] has sufficient vision to perform the driving tasks required to operate a commercial vehicle equipped with outside mirrors on both sides.” Mr. La Fleur reported that he has driven straight trucks for 7 years, accumulating 218,400 miles. He holds an operator's license from Maryland. His driving record for the last 3 years shows no crashes and no convictions for moving violations in a CMV.

Dennis A. Lindner

Mr. Lindner, 31, has had glaucoma in his left eye since birth. The visual acuity in his right eye is 20/20, and in his left eye, 20/400. Following an examination in 2013, his optometrist noted, “I feel Dennis has sufficient vision to preform [sic] the driving tasks required to operate a commercial vehicle.” Mr. Lindner reported that he has driven straight trucks for 6 years, accumulating 120,000 miles, and tractor-trailer combinations for 3 years, accumulating 90,000 miles. He holds an operator's license from Minnesota. His driving record for the last 3 years shows no crashes and no convictions for moving violations in a CMV.

Jerry P. Lindesmith

Mr. Lindesmith, 45, has an enucleated left eye due to a traumatic incident in 1999. The visual acuity in his right eye is 20/20, and in his left eye, no light perception. Following an examination in 2013, his optometrist noted, “Mr. Lindesmith has been driving safely under these conditions since 1999 and, in my opinion, has sufficient vision to safely perform the driving tasks required to operate a commercial vehicle.” Mr. Lindesmith reported that he has driven straight trucks for 3 years, accumulating 295,650 miles, and tractor-trailer combinations for 25 years, accumulating 4.03 million miles. He holds a Class A CDL from Oklahoma. His driving record for the last 3 years shows no crashes and two convictions for moving violations in a CMV; one conviction was for failure to stop for a stop sign; the other conviction was for exceeding the speed limit by 10 mph.

Jorge S. Lopez

Mr. Lopez, 63, has had a macular hole in his right eye since 1998. The visual acuity in his right eye is 20/200, and in his left eye, 20/20. Following an examination in 2013, his optometrist noted, “Mr. Lopez has sufficient vision to operate [sic] commercial vehicle.” Mr. Lopez reported that he has driven tractor-trailer combinations for 35 years, accumulating 1.4 million miles. He holds an operator's license from California. His driving record for the last 3 years shows no crashes and no convictions for moving violations in a CMV.

Thomas J. Mavraganis

Mr. Mavraganis, 25, has had a retinal detachment in his left eye since 2005. The visual acuity in his right eye is 20/20, and in his left eye, counting fingers. Following an examination in 2013, his ophthalmologist noted, “Although Thomas has very poor vision in his left eye, his vision in his right eye is completely normal, therefore his vision is sufficient to drive a commercial vehicle.” Mr. Mavraganis reported that he has driven straight trucks for 3.5 years, accumulating 52,500 miles. He holds an operator's license from Illinois. His driving record for the last 3 years shows no crashes and no convictions for moving violations in a CMV.

Douglas P. McEachern

Mr. McEachern, 49, has had HSV keratitis in his right eye since 2009. The visual acuity in his right eye is 20/300, and in his left eye, 20/15. Following an examination in 2013, his optometrist noted, “In my medical opinion, given the longstanding nature of the condition, and given the stability of the condition, he can perform adequate, safe operation of a commercial vehicle.” Mr. McEachern reported that he has driven straight trucks for 7 years, accumulating 84,000 miles. He holds a Class B CDL from Minnesota. His driving record for the last 3 years shows no crashes and no convictions for moving violations in a CMV.

Merton H. Miller

Mr. Miller, 79, has a prosthetic left eye due to a traumatic incident in 1971. The visual acuity in his right eye is 20/20, and in his left eye, no light perception. Following an examination in 2013, his optometrist noted, “In my opinion, Mr. Miller has sufficient vision to perform commercial driving tasks.” Mr. Miller reported that he has driven straight trucks for 50 years, accumulating 500,000 miles, and tractor-trailer combinations for 50 years, accumulating 550,000 miles. He holds a Class A CDL from Minnesota. His driving record for the last 3 years shows no crashes and no convictions for moving violations in a CMV.

Charles R. Morris, Jr.

Mr. Morris, 63, has complete loss of vision in his left eye due to a traumatic incident in 2001. The visual acuity in his right eye is 20/25, and in his left eye, no light perception. Following an examination in 2013, his ophthalmologist noted that, in his medical opinion, Mr. Morris does have sufficient vision to operate a commercial motor vehicle. Mr. Morris reported that he has driven straight trucks for 10 years, accumulating 1 million miles, and tractor-trailer combinations for 45 years, accumulating 4.5 million miles. He holds a Class A CDL from Ohio. His driving record for the last 3 years shows no crashes and no convictions for moving violations in a CMV.

John Murray

Mr. Murray, 60, has had amblyopia in his left eye since birth. The visual acuity in his right eye is 20/20, and in his left eye, 20/400. Following an examination in 2013, his ophthalmologist noted, “I certify that in my medical option [sic] Mr. Murry [sic] has significant vision to perform the driving tasks required to operate a commercial vehicle.” Mr. Murray reported that he has driven tractor-trailer combinations for 13 years, accumulating 169,000 miles. He holds a Class A CDL from Washington. His driving record for the last 3 years shows no crashes and no convictions for moving violations in a CMV.

Michael S. Nichols

Mr. Nichols, 49, has amblyopia in his left eye due to a traumatic incident during childhood. The visual acuity in his right eye is 20/15, and in his left eye, 20/400. Following an examination in 2013, his optometrist noted, “In my opinion, Mr. Nichols is completely safe to operate a commercial vehicle provided that mirrors are on both the right and left hand sides of the vehicle.” Mr. Nichols reported that he has driven straight trucks for 28 years, accumulating 728,000 miles. He holds an operator's license from Georgia. His driving record for the last 3 years shows no crashes and no convictions for moving violations in a CMV.

Dino J. Pires

Mr. Pires, 44, has had strabismic amblyopia in his left eye since birth. The visual acuity in his right eye is 20/25, and in his left eye, 20/200. Following an examination in 2013, his ophthalmologist noted, “I believe that Mr. Pires is safe to operate any motor vehicle, with normal peripheral vision and good central vision in his dominant eye.” Mr. Pires reported that he has driven straight trucks for 15 years, accumulating 75,000 miles. He holds an operator's license from Connecticut. His driving record for the last 3 years shows no crashes and no convictions for moving violations in a CMV.

Anthony S. Poindexter

Mr. Poindexter, 52, has had a corneal scar in his left eye since birth. The visual acuity in his right eye is 20/20, and in his left eye, 20/250. Following an examination in 2013, his ophthalmologist noted, “Although Mr. Poindexter's corrected acuity is 20/20 OD and 20/250 OS I believe that he has sufficient vision to perform driving tasks to operate a commercial vehicle as he states that he has operated a commercial vehicle since he was 18 years old and the corneal scar OS is congenital.” Mr. Poindexter reported that he has driven straight trucks for 33 years, accumulating 171,600 miles, and tractor-trailer combinations for 33 years, accumulating 330,000 miles. He holds a Class A CDL from Missouri. His driving record for the last 3 years shows no crashes and no convictions for moving violations in a CMV.

William S. Pusey

Mr. Pusey, 72, has had amblyopia in his left eye since birth. The visual acuity in his right eye is 20/25, and in his left eye, counting fingers. Following an examination in 2013, his ophthalmologist noted, “In my medical opinion, Mr. Pusey has sufficient vision to perform the driving tasks required to operate a commercial vehicle.” Mr. Pusey reported that he has driven straight trucks for 55 years, accumulating 1.1 million miles, and tractor-trailer combinations for 51 years, accumulating 3.06 million miles. He holds a Class A CDL from Maryland. His driving record for the last 3 years shows no crashes and no convictions for moving violations in a CMV.

Joe A. Root

Mr. Root, 54, has had amblyopia in his right eye since birth. The visual acuity in his right eye is 20/100, and in his left eye, 20/20. Following an examination in 2013, his optometrist noted, “I feel that Mr. Root's visual abilities are adequate to operate a commercial vehicle.” Mr. Root reported that he has driven straight trucks for 23 years, accumulating 230,000 miles, and tractor-trailer combinations for 14 years, accumulating 385,000 miles. He holds a Class A CDL from Minnesota. His driving record for the last 3 years shows no crashes and no convictions for moving violations in a CMV.

Daryl A. Roskam

Mr. Roskam, 33, has had complete loss of vision in his right eye since 2002. The visual acuity in his right eye is 20/20, and in his left eye, no light perception. Following an examination in 2013, his optometrist noted that, in his medical opinion, Mr. Roskam does have sufficient vision to operate a commercial motor vehicle. Mr. Roskam reported that he has driven straight trucks for 13 years, accumulating 16,250 miles. He holds an operator's license from Tennessee. His driving record for the last 3 years shows no crashes and no convictions for moving violations in a CMV.

Chance T. Rupert

Mr. Rupert, 30, has had amblyopia in his left eye since childhood. The visual acuity in his right eye is 20/20, and in his left eye, 20/50. Following an examination in 2013, his optometrist noted, “It is my medical opinion that Mr. Rupert has sufficient vision to perform the driving task [sic] required to operate a commercial vehicle.” Mr. Rupert reported that he has driven straight trucks for 12 years, accumulating 480,000 miles, and tractor-trailer combinations for 2 years, accumulating 16,000 miles. He holds an operator's license from Oklahoma. His driving record for the last 3 years shows no crashes and no convictions for moving violations in a CMV.

Phil N. Schad

Mr. Schad, 64, has had amblyopia in his right eye since birth. The visual acuity in his right eye is 20/50, and in his left eye, 20/20. Following an examination in 2013, his optometrist noted, “In my opinion, Mr. Schad has sufficient vision to perform the driving tasks required to operate a commercial vehicle.” Mr. Schad reported that he has driven straight trucks for 25 years, accumulating 375,000 miles. He holds a Class B CDL from Missouri. His driving record for the last 3 years shows no crashes and no convictions for moving violations in a CMV.

Glen A. Schroeder

Mr. Schroeder, 54, has had a corneal scar and cataract in his left eye since 2000. The visual acuity in his right eye is 20/20, and in his left eye, 20/300. Following an examination in 2013, his ophthalmologist noted, “I told him to be careful and make sure that the right eye is always seeing well as the left eye does have a deficiency, but I do feel that he would be safe in maintaining his CDL license for commercial driving.” Mr. Schroeder reported that he has driven straight trucks for 2 years, accumulating 120,000 miles, and tractor-trailer combinations for 37 years, accumulating 4.44 million miles. He holds a Class A CDL from South Dakota. His driving record for the last 3 years shows no crashes and no convictions for moving violations in a CMV.

Eric E. Scott

Mr. Scott, 40, has complete loss of vision in his right eye due to a traumatic incident in 1998. The visual acuity in his right eye is hand motion, and in his left eye, 20/15. Following an examination in 2013, his optometrist noted, “It is my opinion that Eric Scott fully meets or exceeds the visual requirements to operate a commercial motor vehicle in interstate commerce.” Mr. Scott reported that he has driven straight trucks for 7 years, accumulating 70,000 miles, and tractor-trailer combinations for 7 years, accumulating 94,500 miles. He holds a Class A CDL from Utah. His driving record for the last 3 years shows no crashes and no convictions for moving violations in a CMV.

Robert L. Sharp

Mr. Sharp, 51, has an aphakic right eye due to a traumatic incident during childhood. The visual acuity in his right eye is counting fingers, and in his left eye, 20/20. Following an examination in 2013, his optometrist noted, “In my medical opinion, he has sufficient vision to perform the driving tasks required to operate a commercial vehicle.” Mr. Sharp reported that he has driven straight trucks for 25 years, accumulating 50,000 miles. He holds a Class A CDL from Washington. His driving record for the last 3 years shows no crashes and no convictions for moving violations in a CMV.

Glen A. Showalter

Mr. Showalter, 62, has retinal damage and a macular scar in his left eye due to a traumatic incident in 1985. The visual acuity in his right eye is 20/20, and in his left eye, 20/200. Following an examination in 2013, his ophthalmologist noted, “This letter certifies that he has sufficient vision to perform the driving tasks required to operate a commercial vehicle as he has been doing for over 25 years.” Mr. Showalter reported that he has driven straight trucks for 40 years, accumulating 600,000 miles, and tractor-trailer combinations for 32 years, accumulating 2.24 million miles. He holds a Class A CDL from Oregon. His driving record for the last 3 years shows one crash, for which he was not cited, and two convictions for moving violations in a CMV; one conviction was for exceeding the speed limit by 10 to 25 mph; the other conviction was for failure to hold a valid CDL while operating a CMV.

Michael D. Singleton

Mr. Singleton, 63, has had ocular histoplasmosis with a macular scar in his right eye since 2007. The visual acuity in his right eye is 20/100, and in his left eye, 20/20. Following an examination in 2013, his ophthalmologist noted, “In my opinion he has sufficient vision to perform the driving test required to drive a commercial vehicle given the fact that his vision is 20/20- [sic] in his left eye.” Mr. Singleton reported that he has driven straight trucks for 31 years, accumulating 852,500 miles. He holds a chauffer's license from Indiana. His driving record for the last 3 years shows no crashes and no convictions for moving violations in a CMV.

John B. Theres

Mr. Theres, 36, has had nystagmus and albinism in his right eye since birth. The visual acuity in his right eye is 20/160, and in his left eye, 20/32. Following an examination in 2013, his optometrist noted, “In my professional opinion as an optometrist, John Theres has sufficient vision to operate a commercial vehicle.” Mr. Theres reported that he has driven straight trucks for 12 years, accumulating 300,000 miles, and tractor-trailer combinations for 11 years, accumulating 220,000 miles. He holds a Class AM CDL from Illinois. His driving record for the last 3 years shows no crashes and no convictions for moving violations in a CMV.

Robert S. Waltz

Mr. Waltz, 37, has had strabismus amblyopia in his left eye since childhood. The visual acuity in his right eye is 20/20, and in his left eye, 20/400. Following an examination in 2013, his optometrist noted, “In my medical opinion, Robert has sufficient vision to perform driving tasks to operate a commercial vehicle.” Mr. Waltz reported that he has driven straight trucks for 15 years, accumulating 240,000 miles. He holds a Class B CDL from Maine. His driving record for the last 3 years shows no crashes and no convictions for moving violations in a CMV.

Ronald L. Walker

Mr. Walker, 45, has had amblyopia in his right eye since childhood. The visual acuity in his right eye is 20/70, and in his left eye, 20/20. Following an examination in 2013, his ophthalmologist noted, “Mild R Amblyopia [sic] . . . Stable R eye Condition [sic] . . . There is sufficient vision for commercial vehicle operation.” Mr. Walker reported that he has driven straight trucks for 4 years, accumulating 40,000 miles. He holds an operator's license from Florida. His driving record for the last 3 years shows no crashes and no convictions for moving violations in a CMV.

Charles G. Warshun, Jr.

Mr. Warshun, 58, has had a nuclear sclerotic cataract in his left eye since birth. The visual acuity in his right eye is 20/25, and in his left eye, 20/70. Following an examination in 2013, his ophthalmologist noted, “Vision sufficient to drive a commercial vehicle safely.” Mr. Warshun reported that he has driven straight trucks for 36 years, accumulating 524,160 miles. He holds an operator's license from New York. His driving record for the last 3 years shows no crashes and no convictions for moving violations in a CMV.

Willard H. Weerts

Mr. Weerts, 59, has optic nerve damage due to a traumatic incident in 1981. The visual acuity in his right eye is 20/400, and in his left eye, 20/25. Following an examination in 2013, his optometrist noted, “Based on the fact that he has had a CDL license for many years, along with this condition, I feel that he is still capable of driving a commercial vehicle.” Mr. Weerts reported that he has driven straight trucks for 14 years, accumulating 140,000 miles. He holds a Class A CDL from Illinois. His driving record for the last 3 years shows no crashes and no convictions for moving violations in a CMV.

Vernon J. Wenger

Mr. Wenger, 62, has had refractive amblyopia in his left eye since childhood. The visual acuity in his right eye is 20/20, and in his left eye, 20/100. Following an examination in 2013, his optometrist noted, “My understanding is that Mr. Wenger has been driving a commercial vehicle for many years without incident. There has been no recent change in his visual abilities, so my assumption would be that he should have sufficient vision to perform the driving task required to operate a commercial vehicle.” Mr. Wenger reported that he has driven straight trucks for 20 years, accumulating 520,000 miles. He holds a Class B CDL from Iowa. His driving record for the last 3 years shows no crashes and no convictions for moving violations in a CMV.

Donald G. Wilcox, Jr.

Mr. Wilcox, 45, has had high hyperopia, astigmatism, nystagmus, and alternating exotropia with left-sided fixation preference in his right eye since childhood. The visual acuity in his right eye is 20/60, and in his left eye, 20/40. Following an examination in 2013, his optometrist noted, “At this time it is of my medical opinion that he has sufficient vision to perform the driving tasks required to operate a commercial vehicle.” Mr. Wilcox reported that he has driven straight trucks for 6 years, accumulating 60,000 miles, and tractor-trailer combinations for 9 years, accumulating 540,000 miles. He holds a Class A CDL from Oregon. His driving record for the last 3 years shows no crashes and no convictions for moving violations in a CMV.

Request for Comments

In accordance with 49 U.S.C. 31136(e) and 31315, FMCSA requests public comment from all interested persons on the exemption petitions described in this notice. The Agency will consider all comments received before the close of business March 27, 2014. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2014-0002 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2014-0002 and click “Search.” Next, click “Open Docket Folder” and you will find all documents and comments related to the proposed rulemaking.

Issued on: February 12, 2014.
Larry W. Minor,
Associate Administrator for Policy.

[FR Doc. 2014-03995 Filed 2-24-14; 8:45 am]

BILLING CODE 4910-EX-P